DEPARTMENT OF THE INTERIOR

Minerals Management Service

Agency Information Collection Activities: Submitted for Office of Management and Budget (OMB) Review; Comment Request

AGENCY: Minerals Management Service (MMS), Interior.

ACTION: Notice of revision of an information collection (1010-0059).

SUMMARY: To comply with the Paperwork Reduction Act of 1995 (PRA), we are notifying the public that we have submitted to OMB an information collection request (ICR) to renew approval of the paperwork requirements in the regulations under 30 CFR part 250, “Oil and Gas Production Safety Systems,” and related documents. This notice also provides the public a second opportunity to comment on the paperwork burden of these regulatory requirements.

DATES: Submit written comments by February 22, 2006.

ADDRESSES: You may submit comments on this information collection directly to the Office of Management and Budget (OMB), Office of Information and Regulatory Affairs, OMB, Attention: Desk Officer for the Department of the Interior via OMB email: OIRA_DOCKET@omb.eop.gov; or by fax (202) 395-6566; identify with (1010-0059).

Submit a copy of your comments to the Department of the Interior, MMS, via:

• Email MMS at rules.comments@mms.gov. Use Information Collection Number 1010-0059 in the subject line.

• Fax: 703-787-1093. Identify with Information Collection Number 1010-0059.

• Mail or hand-carry comments to the Department of the Interior; Minerals Management Service; Attention: Rules Processing Team (RPT); 381 Elden Street, MS-4024; Herndon, Virginia 20170-4817. Please reference “Information Collection 1010-0059” in your comments.

FOR FURTHER INFORMATION CONTACT: Cheryl Blundon, Rules Processing Team, (703) 787-1600. You may also contact Cheryl Blundon to obtain a copy, at no cost, of the regulations that require the subject collection of information.

SUPPLEMENTARY INFORMATION: Title: 30 CFR 250, Oil and Gas Production Safety Systems.

OMB Control Number: 1010-0058.

Abstract: The Outer Continental Shelf (OCS) Lands Act, as amended (43 U.S.C. 1331 et seq. and 43 U.S.C. 1801 et seq.), authorizes the Secretary of the Interior (Secretary) to prescribe rules and regulations to administer leasing of the OCS. Such rules and regulations will apply to all operations conducted under a lease. Operations on the OCS must preserve, protect, and develop oil and natural gas resources in a manner that is consistent with the need to make such resources available to meet the Nation's energy needs as rapidly as possible; to balance orderly energy resource development with protection of human, marine, and coastal environments; to ensure the public a fair and equitable return on the resources of the OCS; and to preserve and maintain free enterprise competition. Section 1332(6) states that “operations in the [O]uter Continental Shelf should be conducted in a safe manner by well trained personnel using technology, precautions, and other techniques sufficient to prevent or minimize the likelihood of blowouts, loss of well control, fires, spillages, physical obstructions to other users of the waters or subsoil and seabed, or other occurrences which may cause damage to the environment or to property or endanger life or health.”

This notice concerns the reporting and recordkeeping elements of 30 CFR 250, subpart H, Oil and Gas Production Safety Systems, and related Notices to Lessees and Operators (NTLs) that clarify and provide additional guidance on some aspects of the regulations. Responses are mandatory. No questions of a “sensitive” nature are asked. MMS will protect proprietary information according to 30 CFR 250.196, “Data and information to be made available to the public,” 30 CFR part 252, “OCS Oil and Gas Information Program,” and the Freedom of Information Act (5 U.S.C. 552) and its implementing regulations (43 CFR 2).

MMS OCS Regions use the information submitted under subpart H to evaluate equipment and/or procedures that lessees propose to use during production operations, including evaluation of requests for departures or use of alternative procedures. Information submitted is also used to verify the no-flow condition of wells to continue the waiver of requirements to install valves capable of preventing backflow. MMS inspectors review the records maintained to verify compliance with testing and minimum safety requirements.

The Gulf of Mexico OCS Region (GOMR) has a policy regarding approval of “new” requests to use a chemical-only fire prevention and control system in lieu of a water system. With respect to “currently-approved” departures, MMS may require additional information be submitted to maintain approval of the departure. The information is used to determine if the chemical-only system provides the equivalent protection of a water system for the egress of personnel should a fire occur.

In the Pacific OCS Region, MMS reviews copies of the Emergency Action Plans (EAP) that lessees and operators submit to their local air quality agencies to ensure that abatement procedures do not jeopardize safe platform operations.

Frequency: The frequency of reporting is on occasion or annual.

Estimated Number and Description of Respondents: Approximately 117 Federal OCS oil and gas or sulphur lessees.

Estimated Reporting and Recordkeeping “Hour” Burden: The estimated annual “hour” burden for this information collection is a total of 14,445 hours. The following chart details the individual components and estimated hour burdens. In calculating the burdens, we assumed that respondents perform certain requirements in the normal course of their activities. We consider these to be usual and customary and took that into account in estimating the burden.

Citation 30 CFR 250 subpart H and NTL(s) | Reporting and recordkeeping requirement | Hour burden | Average No. annual responses | Annual burden hours
800; 801; 802; 803; related NTLs | Submit application and request approval for design, installation, and operation of subsurface safety devices and surface production-safety systems; including related requests for departures or use of alternative procedures (supervisory control and data acquisition systems, valve closure times, time delay circuitry, etc.) | 8 | 650 submissions | 5,200
801(g) | Submit annual verification of no-flow condition of well | 2 | 50 verifications | 100
801(h)(1) | Form MMS-124, Sundry Notices and Reports on Wells (renamed Application for Permit to Modify) | Burden covered under 1010-0141 |  | 0
801(h)(2); 803(c) | Identify well with sign on wellhead that subsurface safety device is removed; flag safety devices that are out of service | Usual/customary safety procedure for removing or identifying out-of-service safety devices |  | 0
802(e)(5) | Submit statement/application/modification certifying final surface production safety system installed conforms to approved design | 4 | 175 submissions | 700
803(b)(2) | Submit required documentation under API RP 17J | 50 | 6 submissions | 300
803(b)(8); related NTLs | Submit information (risk assessment) to request new firefighting system departure approval (GOMR) | 8 | 150 submissions | 1,200
803(b)(8); related NTLs | Submit information (risk assessment) to retain current firefighting system departure approval (GOMR) | 8 | 100 submissions | 800
803(b)(8)(iv) | Post diagram of firefighting system | 2 | 95 postings | 190
804(a)(12); 800 | Notify MMS prior to production when ready to conduct pre-production test and upon commencement for a complete inspection | ½ | 175 notices | 88 (rounded)
804; related NTLs | Request departure from testing schedule requirements | 1 | 105 requests | 105
804; related NTL | Submit copy of state-required EAP containing test abatement plans (applies to Pacific OCS Region only) | 0 | 0 plans | 0
806(c) | Request evaluation and approval of other quality assurance programs covering manufacture of safety and pollution prevention equipment (SPPE) | 2 | 1 request | 2
800-807 | General departure and alternative compliance requests not specifically covered elsewhere in subpart H regulations | 4 | 230 requests | 920
Subtotal Reporting | 1,737 | 9,605
801(h)(2); 802(e); 804(b) | Maintain records on subsurface and surface safety devices to include approved design & installation features, testing, repair, removal, etc | 20 | 110 lessees | 2,200
803(b)(1)(iii), (2)(i) | Maintain pressure-recorder charts | 12 | 110 lessees | 1,320
803(b)(4)(iii) | Maintain schematic of the emergency shutdown (ESD) which indicates the control functions of all safety devices | 6 | 110 lessees | 660
803(b)(11) | Maintain records of wells that have erosion-control programs and results | 6 | 110 lessees | 660
Subtotal Recordkeeping | 440 | 4,840
Total Hour Burden |  | 2,177 |  | 14,445

Estimated Reporting and Recordkeeping “Non-Hour Cost” Burden: We have identified no paperwork “non-hour cost” burdens associated with the collection of information.

Public Disclosure Statement: The PRA (44 U.S.C. 3501, et seq.) provides that an agency may not conduct or sponsor a collection of information unless it displays a currently valid OMB control number. Until OMB approves a collection of information, you are not obligated to respond.

Comments: Section 3506(c)(2)(A) of the PRA (44 U.S.C. 3501, et seq.) requires each agency “* * * to provide notice * * * and otherwise consult with members of the public and affected agencies concerning each proposed collection of information * * *” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, on June 1, 2005, we published a Federal Register notice (70 FR 31506) announcing that we would submit this ICR to OMB for approval. The notice provided the required 60-day comment period. In addition, § 250.199 provides the OMB control number for the information collection requirements imposed by the 30 CFR 250 regulations. The regulation also informs the public that they may comment at any time on the collections of information and provides the address to which they should send comments. We have received no comments in response to these efforts.

If you wish to comment in response to this notice, you may send your comments to the offices listed under the ADDRESSES section of this notice. OMB has up to 60 days to approve or disapprove the information collection but may respond after 30 days. Therefore, to ensure maximum consideration, OMB should receive public comments by February 22, 2006.

Public Comment Procedures: MMS's practice is to make comments, including names and addresses of respondents, available for public review. If you wish your name and/or address to be withheld, you must state this prominently at the beginning of your comment. MMS will honor the request to the extent allowable by the law; however, anonymous comments will not be considered. All submissions from organizations or businesses, and from individuals identifying themselves as representatives or officials of organizations or businesses, will be made available for public inspection in their entirety.

MMS Information Collection Clearance Officer: Arlene Bajusz (202) 208-7744.

Dated: August 23, 2005.
E.P. Danenberger,
Chief, Office of Offshore Regulatory Programs.

[FR Doc. E6-688 Filed 1-20-06; 8:45 am]

BILLING CODE 4310-MR-P